DEPARTMENT OF HEALTH AND HUMAN SERVICES

Health Resources and Services Administration

Agency Information Collection Activities: Proposed Collection: Public Comment Request Information Collection Request Title: Federal Tort Claims Act Program Deeming Sponsorship Application for Free Clinics, OMB No. 0915-0293-Revision

AGENCY: Health Resources and Services Administration, Department of Health and Human Services.

ACTION: Notice.

SUMMARY: In compliance with the requirement for opportunity for public comment on proposed data collection projects of the Paperwork Reduction Act of 1995, the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than October 5, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Federal Tort Claims Act Program Deeming Sponsorship Application for Free Clinics, OMB No. 0915-0293− Revised

Abstract: Section 224(o) of the Public Health Service (PHS) Act (42 U.S.C. 233(o)), as amended, authorizes the “deeming” of certain individuals as PHS employees for the purposes of receiving liability protections, including Federal Tort Claims Act (FTCA) coverage, for the performance of medical, surgical, dental or related functions within the scope of deemed employment. Section 224(o) extends eligibility for deemed PHS employee status to free clinic health professionals including employees, officers, board members, contractors, and volunteers at qualifying free clinics. The Free Clinics FTCA Program is administered by HRSA's Bureau of Primary Health Care. Sponsoring free clinics seeking FTCA coverage for their employees, officers, board members, contractors, and volunteers must submit deeming applications in the specified form and manner on behalf of named individuals for review and approval, resulting in a “deeming determination” that includes associated FTCA coverage for these individuals.

HRSA is proposing several changes to the FTCA Program Deeming Applications for Free Clinics, to be used for Free Clinic deeming sponsorship applications for Calendar Year 2021 and thereafter, to improve question clarity and clarify required documentation.

Specifically, the Application includes the following proposed changes:

• Updated application language: Specifically, throughout the application, alternate terminology was utilized to provide greater clarity and specificity. These changes were based on stakeholder feedback and information received from the HRSA Health Center Program Support. These changes are not substantive in nature.

• Added Service Type and clarifications regarding professional designation: Specifically, section VI of the application was updated to include service type which will allow HRSA to verify whether an individual is performing clinical or non-clinical services. In addition to the inclusion of service type, a note was added to request that free clinics include the professional designation for each individual.

• Deleted remark in section IX: It has been determined that the information requested in this section, which related to offsite events and particularized determinations is no longer necessary to evaluate eligibility for deeming.

Need and Proposed Use of the Information: Deeming applications must address certain criteria required by law in order for the Secretary to deem an individual sponsored by a qualifying free clinic as a PHS employee for purposes of liability protections, including FTCA coverage. This determination cannot be made without the collection of this information. Specifically, the deeming sponsorship application form seeks information verifying that the free clinic meets the criteria to sponsor a deeming application and that the individual being sponsored is eligible to be deemed as a PHS employee. The FTCA application form for free clinics has been updated to improve clarity and thereby improve applicants' and deemed individuals' compliance with applicable requirements.

Likely Respondents: Respondents include free clinics seeking deemed PHS employee status on behalf of their sponsored individuals for purposes of liability protections, including FTCA coverage.

Burden Statement: Burden in this context means the time expended by persons to generate, maintain, retain, disclose or provide the information requested. This includes the time needed to review instructions; to develop, acquire, install and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
FTCA Free Clinics Program Application | 374 | 3 | 1,122 | 2 | 2,244
Total | 374 |  | 1,122 |  | 2,244

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-17178 Filed 8-5-20; 8:45 am]

BILLING CODE 4165-15-P